DEPARTMENT OF DEFENSE

Department of the Army

Availability of the Final Environmental Impact Statement for the Construction and the Operation of a Battle Area Complex and a Combined Arms Collective Training Facility Within U.S. Army Training Lands in Alaska

AGENCY: Department of the Army, DoD.

ACTION: Notice.

SUMMARY: The Army announces the availability of a Final Environmental Impact Statement (FEIS) for the construction and operation of a Battle Area Complex (BAX) and a Combined Arms Collective Training Facility (CACTF) within U.S. Army training lands in Alaska, and the execution of routine, joint military training at these locations. The purpose of the proposed project is to provide year-round, fully automated, comprehensive and realistic training and range facilities for U.S. Army, Alaska and other units. The FEIS analyzes the proposed action's impacts upon Alaska's natural and man-made environments. The FEIS was prepared in pursuant to the National Environmental Policy Act (NEPA).

FOR FURTHER INFORMATION CONTACT: Major Kirk Gohlke, Public Affairs Officer, telephone: (907) 384-1542 facsimile: (907) 384-2060; e-mail: kirk.gohlke@richardson.army.mil.

SUPPLEMENTARY INFORMATION: U.S. Army, Alaska (USARAK) proposes to construct and to operate two state-of-the-art, fully automated and instrumented combat training facilities on U.S. Army training lands in Alaska. This involves the construction and operation of a BAX (rural environment) and CACTF (urban environment). The BAX requires approximately 3,500 acres and the CACTF requires 1,100 acres of land suitable for the construction and operation of these ranges. In addition, surface danger zones are required for both the BAX and CACTF.

The purpose of the proposed action is to provide year-round, fully automated, comprehensive, and realistic training and range facilities, which, in combination, would support company (200 Soldiers) through battalion (800 Soldiers) combat team training events. The construction and operation of a BAX and CACTF would support required higher levels of realistic combat training in both urban and rural environments. Automated facilities would be used to provide timely feedback that is critical to effective training.

The BAX and CACTF would fully train Soldiers for war by maintaining unit readiness and availability in recognition of the threats facing our nation and the world today. The BAX would support company combat team live-fire operations on a fully automated rural maneuver range and would provide for joint combined arms team training with other Department of Defense organizations. The CACTF would support battalion combat team training and joint operation in an urban environment.

The changes in the FEIS are the result of public and agency comments following the release of the Supplemental Draft EIS in March 2006. The FEIS provides additional analysis on such issues as: project site selection; soil resources; wildlife and fisheries; cultural resources; surface water (particularly local flooding events); fire management; noise; human health and safety; airspace use; and mitigation. These issues have been analyzed based on the following proposed alternative courses of action: (1) No Action (maintain existing range infrastructure without constructing a BAX and a CACTF); (2) Construction and operation of a BAX and a CACTF within the Eddy Drop Zone; (3) Construction and operation of a BAX and a CACTF within the Donnelly Drop Zone; (4) Construction and operation of a BAX and a CACTF within the North Texas Range; and (5) Construction and operation of a BAX within the North Texas Range and CACTF within the Eddy Drop Zone (new alternative). These three locations are within Donnelly Training Area, East, which is adjacent to Fort Greely, AK. The preferred alternative is to construct and operate a BAX and CACTF at Eddy Drop Zone.

Publication of the FEIS is expected to occur in or around June 2006. A 30-day waiting period begins on the date the U.S. Environmental Protection Agency publishes notice of receipt of the FEIS in the Federal Register. Thereafter, the Army will complete the EIS process by issuing a Record of Decision. Copies of the FEIS are available at the following locations: Noel Wien Public Library, 1215 Cowles Street, Fairbanks, AK; Delta Junction Public Library, Deborah Street, Delta Junction, AK; Donnelly Training Area National Resources Office, Building T100, Room 201, Fort Greely, AK; and Fort Wainwright Environmental Resources Department, Building 3023, Fort Wainwright, AK. A copy of the FEIS may be viewed at the following Web site: http://www.usarak.army.mil/conservation, or requested by contacting Major Kirk Gohlke (listed above).

John M. Brown III,
Lieutenant General, USA, Commanding General, U.S. Army, Pacific.

[FR Doc. 06-5386 Filed 6-13-06; 8:45 am]

BILLING CODE 3710-08-M